U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on February 7, 2019 on “What Keeps Xi Up at Night: Beijing's Internal and External Challenges.”

DATES: The hearing is scheduled for Thursday, February 7, 2019 from 9:30 a.m. to 3:20 p.m.

ADDRESSES: Dirksen Senate Office Building, Room 106, Washington, DC 20002. A detailed agenda for the hearing will be posted on the Commission's website at www.uscc.gov. Also, please check the Commission's website for possible changes to the hearing schedule. Reservations are not required to attend the hearing.

FOR FURTHER INFORMATION CONTACT: Any member of the public seeking further information concerning the hearing should contact Leslie Tisdale Reagan, 444 North Capitol Street NW, Suite 602, Washington, DC 20001; telephone: 202-624-1496, or via email at ltisdale@uscc.gov. Reservations are not required to attend the hearing.

SUPPLEMENTARY INFORMATION:

Background: This is the first public hearing the Commission will hold during its 2019 report cycle. This hearing will examine the growing internal and external challenges the Chinese Communist Party (CCP) faces in its attempts to consolidate power at home and increase its influence abroad. The first panel would be designed to explore the implications of President Xi and the CCP's tightening control over economic and security policy making. The second panel would examine China's domestic challenges, considering China's economic weakness and financial sector risks, the risks and benefits of China's state-led economic policies, and the country's reliance on key foreign technologies. The third panel would examine China's external challenges, focusing on the People Liberation Army's shortcomings and the limits of Chinese soft, sharp, and hard power. The hearing will be co-chaired by Senator Carte Goodwin and Senator James Talent. Any interested party may file a written statement by February 7, 2019, by mailing to the contact above. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: January 28, 2019.
Daniel W. Peck,
Executive Director, U.S.-China Economic and Security Review Commission.

[FR Doc. 2019-00463 Filed 1-30-19; 8:45 am]

BILLING CODE 1137-00-P